FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 24, 2016.

A. Federal Reserve Bank of Kansas City (Dennis Denney, Assistant Vice President) 1 Memorial Drive, Kansas City, Missouri 64198-0001:

1. John R. Hill and Carol J. Hill, both of Fort Scott, Kansas, and Robb B. Hill and Carolyn S. Hill, both of West Des Moines, Iowa; to acquire control of City Bancshares, Inc., parent of City State Bank, both in Fort Scott, Kansas. In addition, David L. Thompson and Sharon K. Thompson, both of Independence, Kansas, to retain shares of City Bancshares, Inc., and be approved as members of the Hill/Thompson group acting in concert.

Board of Governors of the Federal Reserve System, October 5, 2016.
Michele Taylor Fennell,
Assistant Secretary of the Board.

[FR Doc. 2016-24671 Filed 10-12-16; 8:45 am]

BILLING CODE 6210-01-P